OFFICE OF PERSONNEL MANAGEMENT

Excepted Service

AGENCY: Office of Personnel Management (OPM).

ACTION: Notice.

SUMMARY: This notice identifies Schedule A, B, and C appointing authorities applicable to a single agency that were established or revoked from February 1, 2022 to February 28, 2022.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during February 2022.

Schedule B

No Schedule B Authorities to report during February 2022.

Schedule C

The following Schedule C appointing authorities were approved during February 2022.

Agency name | Organization name | Position title | Authorization number | Effective date
DEPARTMENT OF AGRICULTURE | Farm Service Agency | State Executive Director—Florida | DA220072 | 02/11/2022
|  | State Executive Director—Alaska | DA220091 | 02/25/2022
|  | State Executive Director—Kansas | DA220073 | 02/11/2022
|  | State Executive Director—Nevada | DA220089 | 02/25/2022
|  | State Executive Director—New Jersey | DA220080 | 02/11/2022
|  | State Executive Director—North Dakota | DA220092 | 02/26/2022
|  | State Executive Director—Oklahoma | DA220079 | 02/11/2022
|  | State Executive Director—Vermont | DA220077 | 02/11/2022
|  | State Executive Director—Washington | DA220074 | 02/11/2022
| Office of the Under Secretary for Food, Nutrition and Consumer Services | Chief of Staff | DA220093 | 02/25/2022
| Office of the Under Secretary for Marketing and Regulatory Programs | Confidential Assistant | DA220094 | 02/25/2022
| Office of Rural Development | State Director—Wyoming | DA220075 | 02/11/2022
|  | State Director—New Jersey | DA220083 | 02/25/2022
|  | State Director—Indiana | DA220084 | 02/25/2022
|  | State Director—Minnesota | DA220086 | 02/25/2022
|  | State Director—Mississippi | DA220087 | 02/25/2022
|  | State Director—Massachusetts | DA220090 | 02/25/2022
|  | State Director—Hawaii | DA220071 | 02/26/2022
|  | State Director—Alaska | DA220095 | 02/26/2022
DEPARTMENT OF COMMERCE | Office of the General Counsel | Special Assistant | DC220064 | 02/10/2022
| Office of the Assistant Secretary for Economic Development | Special Assistant | DC220066 | 02/10/2022
| Office of Public Affairs | Press Assistant | DC220067 | 02/10/2022
| Office of the Assistant Secretary Legislative and Intergovernmental Affairs | Legislative Affairs Specialist | DC220068 | 02/10/2022
| Office of the International Trade Administration | Senior Advisor | DC220071 | 02/15/2022
| National Oceanic and Atmospheric Administration | Senior Advisor | DC220083 | 02/25/2022
DEPARTMENT OF DEFENSE | Office of the Assistant Secretary of Defense (Legislative Affairs) | Special Assistant | DD220096 | 02/16/2022
| Office of the Assistant Secretary of Defense (Strategy, Plans and Capabilities) | Special Assistant | DD220084 | 02/02/2022
| Office of the Assistant to the Secretary of Defense (Public Affairs) | Speechwriter | DD220097 | 02/24/2022
| Office of the Secretary of Defense | Deputy White House Liaison | DD220087 | 02/25/2022
| Office of the Under Secretary of Defense (Comptroller) | Special Assistant | DD220089 | 02/03/2022
| Office of the Under Secretary of Defense (Intelligence and Security) | Senior Intelligence Assistant | DD220092 | 02/08/2022
| Office of the Under Secretary of Defense (Policy) | Special Assistant | DD220098 | 02/24/2022
DEPARTMENT OF EDUCATION | Office of Communications and Outreach | Special Assistant Senior Advisor | DB220021 DB220022 | 02/02/2022 02/02/2022
| Office of Planning, Evaluation and Policy Development | Special Assistant Senior Advisor | DB220020 DB220028 | 02/02/2022 02/02/2022
| Office of the Secretary | Director, White House Liaison | DB220033 | 02/09/2022
|  | Senior Advisor | DB220027 | 02/14/2022
|  | Confidential Assistant | DB220034 | 02/14/2022
DEPARTMENT OF ENERGY | Office of the Assistant Secretary for Congressional and Intergovernmental Affairs | Legislative Affairs Advisor (House) | DE220026 | 02/11/2022
| Office of General Counsel | Attorney-Advisor (General) | DE220023 | 02/18/2022
| Office of Economic Impact and Diversity | Special Advisor for Stakeholder Engagement | DE220028 | 02/18/2022
| Office of Management | Special Assistant for Advance | DE220034 | 02/18/2022
| Office of the Secretary | Special Assistant | DE220035 | 02/18/2022
FEDERAL TRADE COMMISSION | Office of the Chair | Confidential Assistant | FT220002 | 02/04/2022
DEPARTMENT OF HEALTH AND HUMAN SERVICES | Office of Intergovernmental and External Affairs | External Affairs Specialist | DH220041 | 02/03/2022
| Office of Refugee Resettlement/Office of the Director | Special Assistant | DH220043 | 02/09/2022
| Office of the Assistant Secretary for Public Affairs | Online Communications Director | DH220044 | 02/09/2022
| Office of the Assistant Secretary for Preparedness and Response | Advisor | DH220045 | 02/11/2022
| Office of the Assistant Secretary for Health | Director of Communications | DH220046 | 02/25/2022
DEPARTMENT OF HOMELAND SECURITY | Federal Emergency Management Agency | Special Assistant | DM220091 | 02/16/2022
| Office of Legislative Affairs | Chief of Staff | DM220097 | 02/25/2022
|  | Associate Director | DM220098 | 02/25/2022
| Office of Partnership and Engagement | Partnership and Engagement Specialist (2) | DM220084 | 02/03/2022
|  |  | DM220083 | 02/08/2022
| Office of Public Affairs | Press Assistant | DM220094 | 02/16/2022
| Office of Strategy, Policy, and Plans | Executive Director for the Department of Homeland Security Disinformation Governance Board | DM220087 | 02/17/2022
| Office of United States Citizenship and Immigration Services | Special Assistant to the Director Senior Advisor | DM220063 DM220064 | 02/01/2022 02/02/2022
|  | Deputy Chief of Staff | DM220075 | 02/08/2022
| Office of United States Customs and Border Protection | Special Assistant | DM220099 | 02/15/2022
DEPARTMENT OF HOUSING AND URBAN DEVELOPMENT | Office of Government National Mortgage Association | Senior Advisor | DU220026 | 02/05/2022
| Office of Field Policy and Management | Regional Administrator (Region I) (2) | DU220028 DU220025 | 02/09/2022 02/14/2022
| Office of the Secretary | Senior Advisor for Disaster Recovery | DU220029 | 02/14/2022
|  | Special Assistant for Budget Policy and Programs | DU220027 | 02/16/2022
| Office of the Deputy Secretary | Special Advisor | DU220032 | 02/28/2022
DEPARTMENT OF THE INTERIOR | Office of the Solicitor | Advisor to the Solicitor | DI220045 | 02/25/2022
DEPARTMENT OF LABOR | Office of the Assistant Secretary for Administration and Management | Chief of Staff | DL220029 | 02/25/2022
NATIONAL ENDOWMENT FOR THE ARTS | National Endowment for the Arts | Special Assistant to the Chair | NA220001 | 02/22/2022
OFFICE OF PERSONNEL MANAGEMENT | Office of the General Counsel | Special Counsel and Senior Advisor | PM220017 | 02/10/2022
| Office of the Director | Senior Advisor for Leadership Development and Equity | PM220019 | 02/25/2022
SECURITIES AND EXCHANGE COMMISSION | Office of Public Affairs | Writer-Editor (2) | SE220007 SE220008 | 02/10/2022 02/17/2022
DEPARTMENT OF STATE | Office of the Under Secretary for Arms Control and International Security Affairs | Senior Advisor | DS220019 | 02/11/2022
| Office of the Under Secretary for Economic Growth, Energy, and the Environment | Special Representative | DS220020 | 02/11/2022
DEPARTMENT OF TRANSPORTATION | Office of the Deputy Secretary | Chief of Staff to the Deputy Secretary | DT220028 | 02/11/2022
| Office of Public Affairs | Deputy Press Secretary | DT220029 | 02/11/2022
| Office of the Assistant Secretary for Governmental Affairs | Deputy Assistant Secretary for Congressional Affairs (Senate) | DT220031 | 02/22/2022

The following Schedule C appointing authorities were revoked during February 2022.

Agency name | Organization name | Position title | Request number | Vacate date
DEPARTMENT OF EDUCATION | Office of Communications and Outreach | Special Assistant | DB210056 | 02/26/2022
| Office of Legislation and Congressional Affairs | Special Assistant | DB210026 | 02/12/2022
| Office of Special Education and Rehabilitative Services | Special Assistant | DB210073 | 02/26/2022
DEPARTMENT OF HEALTH AND HUMAN SERVICES | Office of Refugee Resettlement/Office of the Director | Special Assistant | DH210105 | 02/12/2022
| Office of the Assistant Secretary for Health | Senior Advisor and Director of Scheduling and Advance | DH210114 | 02/11/2022
| Office of the Assistant Secretary for Preparedness and Response | Special Assistant Covid Response | DH210121 | 02/26/2022
| Office of the Secretary | Deputy White Liaison | DH210100 | 02/13/2022
DEPARTMENT OF HOUSING AND URBAN DEVELOPMENT | Office of the Administration | Director of Advance | DU210032 | 02/28/2022
ENVIRONMENTAL PROTECTION AGENCY | Office of the Associate Administrator for Congressional and Intergovernmental Relations | Deputy Associate Administrator for Congressional Affairs (Senate Relations) | EP210098 | 02/26/2022
OFFICE OF PERSONNEL MANAGEMENT | Office of the Director | Senior Advisor for Appointee Leadership Development | PM210036 | 02/26/2022
OFFICE OF THE SECRETARY OF DEFENSE | Office of the Assistant Secretary of Defense (Manpower and Reserve Affairs) | Staff Director | DD220001 | 02/26/2022
| Office of the Secretary of Defense | Special Assistant (2) | DD210155 | 02/26/2022
|  |  | DD210201 | 02/26/2022
| Office of the Under Secretary of Defense (Policy) | Special Assistant | DD210129 | 02/26/2022

Authority: 5 U.S.C. 3301 and 3302; E.O. 10577, 3 CFR, 1954-1958 Comp., p. 218.

Stephen Hickman,
Federal Register Liaison.

[FR Doc. 2022-12090 Filed 6-3-22; 8:45 am]

BILLING CODE 6325-39-P